DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed new collection of data on the costs and usage of Workforce Investment Act (WIA) and Wagner Peyser services that do not require registration.

A copy of the proposed information collection request (ICR) can be obtained by contacting the office listed below in the addresses section of this notice.

DATES: Written comments must be submitted to the office listed in the addressee's section below on or before March 18, 2002.

ADDRESSES: James Aaron, Chief, Division of Performance and Results, Office of Financial and Administrative Management, Employment and Training Administration, U.S. Department of Labor, 200 Constitution Avenue, NW, Room N-4702, Washington, DC 20210, Telephone: (202) 693-2814 this is not a toll-free number), E-mail: jaaron@doleta.gov.

SUPPLEMENTARY INFORMATION:

1. Background

The Department of Labor seeks to collect data regarding the costs and usage of Workforce Investment Act (WIA) and Wagner Peyser services that do not require participant registration. Current reporting systems do not capture this information because self and informational services do not require registration and are not part of the performance accountability provisions of the respective statutes. This fact has complicated the budget process by limiting DOL's capacity to develop unit cost projections. In addition, DOL does not have complete information on WIA service design. The information that is developed will be used to inform budget decisions and the WIA reauthorization process.

The data will consist of information already collected by state and local workforce development staff for their own management purposes and data collected from a probability sample of persons using self-service facilities. The principal goal of the data collection is to develop a national estimate of the number of job seekers who use informational, self, or staff facilitated services that do not require registration in primary One-Stop programs and related costs.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

III. Current Actions

DOL is seeking Office of Management and Budget (OMB) approval to collect data on the costs and usage of Workforce Investment Act (WIA) and Wagner Peyser services that do not require registration. The data are necessary to inform budget decisions and for the WIA reauthorization process. The data will consist of information already collected by state and local workforce development staff for their own management purposes and data collected from a probability sample of persons using self-service facilities. The principal goal of the data collection is to develop a national estimate of the number of job seekers who use informational, self, or staff facilitated services that do not require registration in primary One-Stop programs.

Type of Review: New.

Agency: Employment and Training Administration.

Title: Estimation of ETA Non-Registrant Service Usage and Costs.

OMB Number: 1205-ONEW.

Affected Public: Individuals or households; State, Local or Tribal Government.

Total Respondents: 12,554.

Frequency: On occasion.

Total Responses: 12,554.

Average Time per Response: 12.37 hours for state survey; 2 minutes for participant survey.

Estimated Total Burden Hours: 1,085 for state and participant surveys; 2,760 local staff burden for participant survey.

Table 1.—Respondent Burden for State and Participant Surveys
Data form | Total respondents | Frequency | Total responses | Average time per response | Total burden hours
State survey | 54 | 1 | 54 | 12.37 | 668
Participant survey | 12,500 | 1 | 12,500 | 2 minutes | 417
Totals | 12,554 | 1 | 12,554 | NA | 1,085

Table 2.—Local Staff Burden for Participant Survey
Tasks conducted by local staff | Staff hours per sampled office | Staff hours for 120 sampled offices
Orientation and Training | 2 | 240
Data Collection | 20 | 2,400
Maintenance and Delivery of Data Collection Forms | 1 | 120
Total Burden Hours | 23 | 2,760

Total Burden Hours for all surveys: 3,845.

Total Burden Cost (capital/startup): $0.

Total Burden Cost (operating/maintaining): $0.

Comments submitted in response to this comment request will be summarized and/or included in the request for Office of Management and Budget approval of the information collection request; they will also become a matter of public record.

Bryan T. Keilty,
Administrator, Office of Financial and Administrative Management, Employment and Training Administration.

[FR Doc. 02-1111 Filed 1-15-02; 8:45 am]

BILLING CODE 4510-30-M